DEPARTMENT OF THE TREASURY

Agency Information Collection Activities; Submission for OMB Review; Comment Request; Multiple Internal Revenue Service (IRS) Information Collection Requests

AGENCY: Departmental Offices, Department of the Treasury.

ACTION: Notice of information collection, request for comment.

SUMMARY: The Department of the Treasury will submit the following information collection requests to the Office of Management and Budget (OMB) for review and clearance in accordance with the Paperwork Reduction Act of 1995, on or after the date of publication of this notice. The public is invited to submit comments on these requests.

DATES: Comments should be received on or before October 17, 2022 to be assured of consideration.

ADDRESSES: Written comments and recommendations for the proposed information collection should be sent within 30 days of publication of this notice to www.reginfo.gov/public/do/PRAMain. Find this particular information collection by selecting “Currently under 30-day Review—Open for Public Comments” or by using the search function.

Copies of the submissions may be obtained from Melody Braswell by emailing PRA@treasury.gov, calling (202) 622-1035, or viewing the entire information collection request at www.reginfo.gov.

SUPPLEMENTARY INFORMATION:

Internal Revenue Service (IRS)

1. Title: IVES Request for Transcript of Tax Return.

OMB Number: 1545-1872.

Form Number: 4506-C.

Abstract: Internal Revenue Code section 7513 allows taxpayers to request a copy of a tax return or related products. Form 4506-C is used to permit the cleared and vetted Income Verification Express Service (IVES) participants to request tax return information on the behalf of the authorizing taxpayer.

Current Actions: There are changes being made to the form at this time.

The following changes are being implemented:

• Make changes in coordination with Taxpayer First Act (TFA) for 2023 implementation;

• Add IVES participant number;

• Add IVES client name and contact information;

• Add optional Field Unique Identifier;

• Provide a clearer separation of requesting tax transcripts (line 6) vs informational transcripts (line 7);

• Updated signature requirement for each taxpayer;

• Add checkbox for electronically signed forms;

• Add checkbox for forms authorized by Authorized Representatives.

Additionally, IRS is making an administrative change to move the Form 4506-T from being approved under OMB control 1545-1872 to 1545-2154.

Type of Review: Revision of a currently approved collection.

Affected Public: Business or other for-profit organizations, individuals or households, farms, and Federal, state, local, or tribal governments.

Estimated Number of Respondents: 15,370,941.

Estimated Time per Respondent: 0.92 hours.

Estimated Total Annual Burden Hours: 14,141,266.

2. Title: Request for Transcript of Tax Return and Disclosure of returns and return information.

OMB Number: 1545-2154.

Regulation Project Numbers: 4506-T, 4506T-EZ and 4506T-EZ(SP).

Abstract: Form 4506-T is used to request all products except copies of returns. The information provided will be used to search the taxpayers account and provide the requested information and to ensure that the requestor is the taxpayer, or someone authorized by the taxpayer to obtain the documents requested. Individuals can use Form 4506T-EZ to request a tax return transcript that includes most lines of the original tax return. The tax return transcript will not show payments, penalty assessments, or adjustments made to the originally filed return. Form 4506T-EZ (SP) is the Spanish translated version of the Form 4507T-EZ. It is also used to request a tax return transcript that includes most lines of the original tax return.

Current Actions: There are changes being made to the form at this time.

The following changes are being implemented:

Form 4506-T:

• Example for tax year/period updated;

• Removal of Line 5 (Customer File Number).

Form 4506T-EZ:

• Removal of Line 5 (Customer File Number).

Additionally, IRS is making an administrative change to move the Form 4506-T from being approved under OMB control 1545-1872 to 1545-2154.

Type of Review: Revision of a currently approved collection.

Affected Public: Individuals or Households, Farms, and Businesses and other for-profit organizations.

Estimated Number of Respondents: 2,812,960.

Estimated Time per Respondent: 0.78 hours.

Estimated Total Annual Burden Hours: 2,203,485.

Authority: 44 U.S.C. 3501 et seq.

Melody Braswell,
Treasury PRA Clearance Officer.

[FR Doc. 2022-20079 Filed 9-15-22; 8:45 am]

BILLING CODE 4830-01-P